DEPARTMENT OF HOUSING AND URBAN DEVELOPMENT

[Docket No. FR-5625-N-01]

Notice of FHA Debenture Call

AGENCY: Office of the Assistant Secretary for Housing—Federal Housing Commissioner, HUD.

ACTION: Notice.

SUMMARY: This Notice announces a debenture call of certain Federal Housing Administration (FHA) debentures in accordance with authority provided in the National Housing Act.

FOR FURTHER INFORMATION CONTACT: Yong Sun, FHA Financial Reporting Division, Office of Housing, Department of Housing and Urban Development, 451 Seventh Street SW., Room 5148, Washington, DC 20410, telephone 202-402-4778. This is not a toll-free number. Persons with hearing or speech impairments may access this number through TTY by calling the toll-free Federal Relay Service at 800-877-8339.

SUPPLEMENTARY INFORMATION: Pursuant to section 207(j) of the National Housing Act, 12 U.S.C. 1713(j), and in accordance with HUD's regulation at 24 CFR 207.259(e)(3), the Assistant Secretary for Housing—Federal Housing Commissioner, with the approval of the Secretary of the Treasury, announces the call of all FHA debentures, with a coupon rate of 3.125 percent or above, that have been registered on the books of the Bureau of the Public Debt, Department of the Treasury, and are, therefore, “outstanding” as of March 31, 2012. The date of the call is July 1, 2012.

The debentures will be redeemed at par plus accrued interest. Interest will cease to accrue on the debentures as of the call date. At redemption, final interest on any called debentures will be paid along with the principal. Payment of final principal and interest due on July 1, 2012, will be made automatically to the registered holder.

During the period from the date of this notice to the call date, debentures that are subject to the call may not be used by the mortgagee for a special redemption purchase in payment of a mortgage insurance premium.

No transfer of debentures covered by the foregoing call will be made on the books maintained by the Treasury Department on or after June 11, 2012. This debenture call does not affect the right of the holder of a debenture to sell or assign the debenture on or after this date.

Dated: February 17, 2012.
Carol J. Galante,
Acting Assistant Secretary for Housing—Federal Housing Commissioner.

[FR Doc. 2012-7326 Filed 3-26-12; 8:45 am]

BILLING CODE 4210-67-P